DEPARTMENT OF JUSTICE

Notice of Lodging of Proposed Consent Decree Under the Clean Air Act

On December 1, 2016, the Department of Justice lodged a proposed consent decree with the United States District Court for the Western Division of North Dakota in the lawsuit entitled United States v. Slawson Exploration Company, Inc., Civil Action No. 1:16-cv-00413-CSM.

The United States filed this lawsuit under the Clean Air Act. The United States' complaint seeks injunctive relief and civil penalties for violations of (a) the Federal Implementation Plan for Oil and Natural Gas Well Production Facilities; Fort Berthold Indian Reservation and (b) North Dakota's federally-approved State Implementation Plan at well pads owned and operated by Slawson in North Dakota. The principal violations relate to alleged failures to adequately design, operate, and maintain storage tank vapor control systems, resulting in emissions of volatile organic compounds (“VOC”) and other pollutants to the atmosphere. Many of the well pads are located on the Fort Berthold Indian Reservation. The remainder are located in North Dakota outside the exterior boundaries of the reservation. The consent decree requires Slawson to perform injunctive relief and pay a $2.1 million civil penalty.

The publication of this notice opens a period for public comment on the consent decree. Comments should be addressed to the Assistant Attorney General, Environment and Natural Resources Division, and should refer to United States v. Slawson Exploration Company, Inc., D.J. Ref. No. 90-5-2-1-11261. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $21.00 (25 cents per page reproduction cost) payable to the United States Treasury.

Robert Brook,
Assistant Section Chief, Environmental Enforcement Section, Environment and Natural Resources Division.

[FR Doc. 2016-29276 Filed 12-6-16; 8:45 am]

BILLING CODE 4410-15-P